DEPARTMENT OF HEALTH AND HUMAN SERVICES

Substance Abuse and Mental Health Services Administration

Agency Information Collection Activities Under Emergency Review by the Office of Management and Budget

The Substance Abuse and Mental Health Services Administration (SAMHSA) has submitted the following request (see below) for emergency OMB review under the Paperwork Reduction Act (44 U.S.C. Chapter 35). OMB approval has been requested by August 31, 2012. A copy of the information collection plans may be obtained by calling the SAMHSA Reports Clearance Officer on (240) 276-1243.

Title: Monitoring of National Suicide Prevention Lifeline Form.

Frequency: Annually.

Affected public: Non-Profit Institutions.

SAMHSA is requesting an emergency extension for this data collection. The data collection expires on August 31, 2012 and the Agency has determined that this information must be collected beyond the expiration date. This information is essential to the mission of SAMHSA so that the Agency may monitor the extent to which crisis hotline networks are preventing suicides and saving lives.

SAMHSA cannot reasonably comply with the normal clearance procedures because an unanticipated event has occurred in that additional funds have become available this month to continue this important monitoring effort. This is ongoing monitoring and data collection, as such a disruption in the ability to collect this data would result in lost information.

This emergency request is to extend data collection activities of the Monitoring of National Suicide Prevention Lifeline Form (OMB No. 0930-0274). The Substance Abuse and Mental Health Services Administration's (SAMHSA), Center for Mental Health Services (CMHS) funds a National Suicide Prevention Lifeline Network (NSPL), consisting of a two toll-free telephone number that routes calls from anywhere in the United States to a network of local crisis centers. In turn, the local centers link callers to local emergency, mental health, and social service resources.

The overarching purpose of the this data collection is to continue to monitor calls and gather follow-up information from the callers themselves in order for SAMHSA to understand and direct their crisis hotline lifesaving initiatives.

Clearance is being requested to continue call monitoring and caller follow-up assessment activities; as well as the process (silent monitoring) and impact of motivational training and safety planning (MI/SP) with callers who have expressed suicidal desire (follow-up interviews with callers and counselors). These activities are enumerated below:

(1) To ensure quality, the vast majority of crisis centers conduct on-site monitoring of selected calls by supervisors or trainers using unobtrusive listening devices. To monitor the quality of calls and to inform the development of training for networked crisis centers, the national Suicide Prevention Lifeline proposes to remotely monitor calls routed to sixteen crisis centers during the shifts of consenting staff. The procedures are anonymous in that neither staff nor callers will be identified on the Call Monitoring Form. The monitor, a trained crisis worker, will code the type of problem presented by the caller, the elements of a suicide risk assessment that are completed by the crisis worker as well as what action plan is developed with and/or what referral(s) are provided to the caller. No centers will be identified in the reports.

During the shifts of consenting crisis staff, a recording will inform callers that some calls may be monitored for quality assurance purposes. Previous comparisons of matched centers that did and did not play the recordings found no difference in hang-up rates before the calls were answered or within the first 15 seconds of the calls.

(2) With input from multiple experts in the field of suicide prevention, a telephone interview survey was created to collect data on follow-up assessments from consenting individuals calling the Lifeline network. During year 1 of the proposed three year clearance period, a total of 1,095 callers will be recruited from 18 of the approximately 100 crisis hotline centers that participate in the Lifeline network. Trained crisis workers will conduct the follow-up assessment (“Crisis Hotline Telephone Follow-Up Assessment”) within one month of the initial call. Assessments will be conducted only one time for each client. Strict measures to ensure privacy will be followed. Telephone scripts provide potential participants with standardized information to inform their consent decision. Using the Crisis Hotline Telephone Initial Script, trained crisis counselors will ask for permission to have the staff re-contact the caller. The Crisis Hotline Telephone Consent Script, used at the time of re-contact, incorporates the required elements of a written consent form. The resulting data will measure (a) suicide risk status at the time and since the call, (b) depressive symptoms at follow-up, (c) service utilization since the call, (d) barriers to service access, and (e) the client's perception of the efficacy of the hotline intervention.

(3) Call monitors, trained crisis counselors not affiliated with the centers in the project, will access a remote “real-time” monitoring system through the internet to conduct silent monitoring. Monitors will complete the “MI/SP Silent Monitoring Form,” to gather: (a) Call specifics for each call such as date, time, and length; (b) suicide risk status of the caller; (c) information on elements of safety planning, such as making the environment safe and identifying triggers that led to the caller's suicidality; (d) types of referrals the counselor gave and to what services; (e) ratings of counselor behaviors and caller behavioral changes that occurred; and (f) re-contact permission status. At the end of the call and once the counselor deems the intervention to be complete, counselors will ask all appropriate callers, using the MI/SP Caller Initial Script, for permission to be re-contacted by data collection staff for a follow-up interview. Only a caller whose call has been silently monitored is eligible to be followed by the data collection team; thus, counselors will state that the caller may be contacted by the data collection team if randomly selected for a follow-up call. Prior to monitoring and collecting of the data, crisis counselors must have read and signed a MI/SP Counselor Consent. This form explains the purpose of the data collection, privacy, risks and benefits, what the data collection entails, and participant rights.

(4) The “MI/SP Counselor Attitude Questionnaire” attitude questionnaire will be administered to counselors at the conclusion of their MI/SP training and be used as a possible predictor of fidelity of the MI//SP intervention. Information to be gathered includes (a) counselors' views of the applicability of the MI/SP for preparing them to conduct safety planning and follow up with callers; (b) possible anticipated challenges (i.e., impeding factors) to applying the MI/SP training in their centers; (c) the relationship of the MI/SP model to their centers; (d) the extent to which trainees are provided with or obtain adequate resources to enable them to use MI/SP on the job; (h) impeding and facilitating factors; and (9) attitudes about counselors' self-efficacy to use MI/SP and views on its utility.

(5) Counselors will be asked to complete the “MI/SP Counselor Follow-up Questionnaire” for each call that is monitored. The questionnaire will incorporate an assessment of the outreach, telephonic follow up and/or other strategies that the center has proposed to implement, and whether the counselor was able to implement the center's site plan as originally conceived. The questionnaire will also include items on the demographic characteristics of the caller, whether contact was successfully made with the caller, whether the caller followed through with the safety plan and/or referral given by the counselor, whether MI/SP was re-implemented during the follow-up contact, whether another follow-up is scheduled, the educational and crisis experience of the person attempting re-contact with the caller, and that person's prior experience with follow-up. Barriers to implementing the follow-up, as well as types of deviation from the site's follow-up plan will also be assessed. Open-ended questions about what led to deviations from the site's follow-up plan will also be included.

(6) Follow-up interviews will be conducted with callers approximately 6 weeks after the initial call to the center. This follow-up telephone interview (“MI/SP Caller Follow-up Interview”) will be conducted to collect information on demographic characteristics, gather caller feedback on the initial call made to the center, suicide risk status at the time of and since the call, current depressive symptomatology, follow through with the safety plan and referrals made by the crisis counselor, and barriers to service. Taking into account attrition and the number of callers who do not give consent, it is expected that the total number of follow-up interviews conducted by the data collection team will not exceed 885. The MI/SP Caller Initial Script protects the privacy of callers by asking the caller how and when they want to be contacted, and what type of message (if any) can be left on an answering machine or with the person picking up the telephone. The caller also has the option of not providing contact information to the crisis center if he/she prefers to call the data collection team back directly. The telephone script used when the data collection team contacts the participant for their follow-up interview (MI/SP Caller Follow-up Consent Script, see Attachment H) includes (1) the fact that the information collection is sponsored by an agency of the Federal Government, (2) the purpose of the information collection and the uses which will be made of the results, (3) the voluntary nature of participation, and (4) the extent to which responses will be kept private.

The estimated response burden to collect this information is as follows annualized over the requested three year clearance period is presented below:

Total and Annualized Averages—Respondents, Responses and Hours
Instrument | Number of respondents | Number of responses per respondent * | Total number of responses | Hours/ response | Response burden *
National Suicide Prevention Lifeline—Call Monitoring Form | 10 | 44 | 440 | .58 | 249
Crisis Hotline Telephone Initial Script | 365 | 1 | 365 | .08 | 29
Crisis Hotline Telephone Consent Script | 365 | 1 | 365 | .17 | 62
Crisis Hotline Telephone Follow-up Assessment | 365 | 1 | 365 | .67 | 245
MI/SP Silent Monitoring Form | 10 | 37 | 370 | .58 | 214
MI/SP Caller Initial Script | 368 | 1 | 368 | .08 | 29
MI/SP Caller Follow-up Consent Script | 368 | 1 | 368 | .17 | 63
MI/SP Caller Follow-up Interview | 295 | 1 | 295 | .67 | 198
MI/SP Counselor Consent | 75 | 1 | 75 | .08 | 6
MI/SP Counselor Attitudes Questionnaire | 75 | 1 | 75 | .25 | 19
MI/SP Counselor Follow-up Questionnaire | 175 | 2 | 350 | .17 | 89
Total | 918 |  | 3,436 |  | 1,181
* Rounded to the nearest whole number.

Emergency approval is being requested to begin on August 31, 2012.

About four months after OMB approval, SAMHSA will publish a 60-Day Federal Register Notice to request comments during that period. SAMHSA encourages comments at anytime.

Summer King,
Statistician.

[FR Doc. 2012-20720 Filed 8-22-12; 8:45 am]

BILLING CODE 4162-20-P